DEPARTMENT OF TRANSPORTATION

Federal Aviation Administration

14 CFR Part 39

[Docket No. FAA-2012-0680; Directorate Identifier 2011-NM-247-AD; Amendment 39-17602; AD 2013-19-20]

RIN 2120-AA64

Airworthiness Directives; The Boeing Company Airplanes

AGENCY: Federal Aviation Administration (FAA), DOT.

ACTION: Final rule.

SUMMARY: We are adopting a new airworthiness directive (AD) for certain The Boeing Company Model DC-10-10 and MD-10-10F airplanes. This AD was prompted by a report that the safe life limit on certain main landing gear (MLG) upper torque link bolts is reduced significantly due to those bolts being fabricated from bar stock with a machined head instead of from a forged blank with an upset head. This AD requires replacing certain MLG upper torque link bolts with new or serviceable parts. We are issuing this AD to prevent damage to the MLG and consequent damage to airplane structure, which could adversely affect the airplane's continued safe flight and landing.

DATES: This AD is effective November 7, 2013.

The Director of the Federal Register approved the incorporation by reference of a certain publication listed in the AD as of November 7, 2013.

ADDRESSES: For service information identified in this AD, contact Boeing Commercial Airplanes, Attention: Data & Services Management, 3855 Lakewood Boulevard, MC D800-0019, Long Beach, CA 90846-0001; telephone 206-544-5000, extension 2; fax 206-766-5683; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Nenita Odesa, Aerospace Engineer, Airframe Branch, ANM-120L, FAA, Los Angeles Aircraft Certification Office, 3960 Paramount Boulevard, Lakewood, CA 90712-4137; phone: (562) 627-5234; fax: (562) 627-5210; email: nenita.odesa@faa.gov.

SUPPLEMENTARY INFORMATION:

Discussion

We issued a notice of proposed rulemaking (NPRM) to amend 14 CFR part 39 by adding an AD that would apply to the specified products. The NPRM published in the Federal Register on July 11, 2012 (77 FR 40828). The NPRM proposed to require replacing certain MLG upper torque link bolts with a new or serviceable part.

Comments

We gave the public the opportunity to participate in developing this AD. The following presents the comments received on the proposal (77 FR 40828, July 11, 2012) and the FAA's response to each comment.

Request To Revise the Unsafe Condition

Boeing requested that we revise the unsafe condition in the NPRM (77 FR 40828, July 11, 2012). Boeing stated that it disagrees with the SUMMARY section of the NPRM where it states that the safe life limit (SLL) of the bolt is reduced significantly due to “incorrect” fabrication. Boeing stated that it approved the fabrication of the bolts from bar stock with a machined head; however, this did not reduce the SLL at that point in time. Boeing stated that the fabrication therefore is not incorrect, and that the SLL reduction was due to fabrication from bar stock with a machined head.

We partially agree with Boeing's request. We agree that the cause of the unsafe condition is not incorrect fabrication.

We disagree with the commenter's statement that the fabrication method of the bolt is correct because with a reduced SLL the discrepant bolts do not meet the type design. The correct fabrication process of the bolt, from forged blank with an upset forged head, would not have reduced the SLL. We have changed the cause of the unsafe condition throughout this final rule to state that the SSL of the bolt is reduced significantly because those bolts were “fabricated from bar stock with a machined head.”

Request To Allow Maintenance Records Review

FedEx requested that in paragraph (g) of the NPRM (77 FR 40828, July 11, 2012) operators be allowed to show compliance by a records review.

We agree with the commenter that a review of an airplane's maintenance record is acceptable if the part number of the bolt can be conclusively determined from that review. We have changed paragraph (g) of this final rule accordingly.

Request To Revise Applicability of the NPRM (77 FR 40828, July 11, 2012)

FedEx stated that paragraphs (g) and (h) of the NPRM (77 FR 40828, July 11, 2012) state to inspect the 18 airplanes listed in the Effectivity section of Boeing Alert Service Bulletin DC10-32A260, dated September 30, 2011. FedEx stated that this wording requires an inspection of the airplane, and since the bolts are easily replaced, the airplane effectivity listed in the service information is not accurate. FedEx stated that it has identified two additional airplanes that have the recalled bolts installed, and that the NPRM would require the operator to inspect an airplane that does not have a recalled bolt installed. FedEx stated that the NPRM should be worded to require the tracking and removal of the recalled bolts listed in that service information without any reference to the airplane effectivity. In addition, FedEx stated that the NPRM should change the SLL of the bolt and then allow the bolts to be tracked and removed in the same manner as any life-limited part. FedEx stated that paragraph (f) of the NPRM should state clearly that an airplane does not require an inspection if a recalled bolt is not installed.

We infer that FedEx is requesting that we revise the applicability of this final rule because the AD applicability refers to the effectivity in Boeing Alert Service Bulletin DC10-32A260, dated September 30, 2011. We disagree with the commenter regarding revising the applicability of this AD. We confirmed with Boeing that the two additional airplanes mentioned previously are not included in the service information effectivity, as the affected bolts were removed in March 2012 and are no longer serviceable. We also disagree that this final rule should be revised to require a reduced SLL of the bolt, and the tracking and removal of the recalled bolts listed in the service information. According to 14 CFR 39.1, Airworthiness Directives apply to aircraft, aircraft engines, propellers, or appliances, and we are required to provide airplane effectivity in an AD. We have not changed this AD in this regard.

Request To Revise the Parts Installation Paragraph

FedEx requested that we revise paragraph (h) of the NPRM (77 FR 40828, July 11, 2012), which stated that no one may install a recalled bolt on an airplane after the effective date of the AD. FedEx stated that the intent of this requirement is to prevent a replacement bolt from being installed. FedEx stated that the requirement can be interpreted as preventing removal and re-installation of a recalled bolt during maintenance, which could result in grounding an airplane at a remote station until a new bolt is available. FedEx stated that the operator should have the flexibility to remove a recalled bolt and re-install it on the same airplane or another airplane to meet operational requirements. FedEx stated that paragraph (h) of the NPRM should be changed to state that no one may install a replacement bolt. FedEx stated that the intent of paragraph (h) of the NPRM could also be accomplished by requiring all recalled bolts to be removed from spares and the spare gear assemblies.

We agree with the commenter. We agree that an operator should have the flexibility to re-install recalled bolts on the same airplane if the bolts have not reached their revised SLL of 6,590 flight cycles. We also agree that an operator should have the flexibility to install the reduced life bolt on an airplane not listed on the service bulletin effectivity list, provided the reduced life bolt is replaced prior to accumulation of 6,590 flight cycles. Therefore, we have removed paragraph (h) of the NPRM (77 FR 40828, July 11, 2012) from this AD because this would allow the reinstallation of a reduced life bolt on other Model DC-10-10 and MD-10-10 airplanes. Subsequent paragraphs have been redesignated accordingly. We have also clarified paragraph (g) of this AD to specify that any replacement bolts identified in paragraph 3.B.1 of the Accomplishment Instructions of Boeing Alert Service Bulletin DC10-32A260, dated September 30, 2011, must be replaced prior to the revised SLL.

Request To Clarify Compliance Time

FedEx Express and Boeing requested clarification of the compliance time. FedEx stated that paragraph (g) of the NPRM (77 FR 40828, July 11, 2012) states that the recalled bolts must be removed at 6,590 cycles since installation. FedEx stated the wording does not correlate with the service information and the service information changes the SLL for these recalled bolts from “47,300 to 6,590 cycles.” FedEx stated that this will force the recalled bolts to be removed at 6,590 cycles since new. FedEx added that the wording of the NPRM allows a bolt to be flown at 6,590 cycles since installation. FedEx stated that the NPRM assumes every bolt has been installed only once in one airplane. FedEx stated that a review of its records show that several of these bolts have been installed on more than one airplane.

Boeing stated that the compliance time should be “before 6,590 flight cycles are accrued on the part, except as specified in paragraph (h)” regardless of bolt installation. Boeing stated that this reasoning takes into account multiple installations. In addition, Boeing stated that the SLL is 6,590 flight cycles, regardless of part installation.

We partially agree with the commenters' request to clarify the compliance time. The FAA intended the term “bolt installation” as installation of the bolt since new. We disagree with FedEx's statement that this AD and the service information use different terms in the compliance time because the term “within 6,590 flight cycles from bolt installation” is similar to the compliance time in section 1.E., “Compliance,” of the service information, which states, “before 6,590 flight cycles from bolt installation.” In addition, we have removed paragraph (h) of the NPRM (77 FR 40828, July 11, 2012) from this AD to address a previous comment; therefore, the additional language is unnecessary. Subsequent paragraphs have been redesignated accordingly.

Conclusion

We reviewed the relevant data, considered the comments received, and determined that air safety and the public interest require adopting this AD with the changes described previously-and minor editorial changes. We have determined that these minor changes:

• Are consistent with the intent that was proposed in the NPRM July 11, 2012 (77 FR 40828, July 11, 2012) for correcting the unsafe condition; and

• Do not add any additional burden upon the public than was already proposed in the NPRM July 11, 2012 (77 FR 40828, July 11, 2012).

We also determined that these changes will not increase the economic burden on any operator or increase the scope of this AD.

Costs of Compliance

We estimate that this AD affects 17 airplanes of U.S. registry.

We estimate the following costs to comply with this AD:

Estimated Costs
Action | Labor cost | Parts cost | Cost per product | Cost on U.S. operators
Bolt Replacement | 2 work-hours × $85 per hour = $170 | $9,340 | $9,510 | $161,670

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-19-20 The Boeing Company: Amendment 39-17602; Docket No. FAA-2012-0680; Directorate Identifier 2011-NM-247-AD.

(a) Effective Date

This AD is effective November 7, 2013.

(b) Affected ADs

None.

(c) Applicability

This AD applies to The Boeing Company Model DC-10-10 and MD-10-10F airplanes, certificated in any category, as identified in Boeing Alert Service Bulletin DC10-32A260, dated September 30, 2011.

(d) Subject

Joint Aircraft System Component (JASC)/Air Transport Association (ATA) of America Code 32, Landing Gear.

(e) Unsafe Condition

This AD was prompted a report that the safe life limit on certain main landing gear (MLG) upper torque link bolts is reduced significantly due to those bolts being fabricated from bar stock with a machined head. We are issuing this AD to prevent damage to the MLG and consequent damage to airplane structure, which could adversely affect the airplane's continued safe flight and landing.

(f) Compliance

Comply with this AD within the compliance times specified, unless already done.

(g) Modification

For airplanes having any bolts identified in paragraph 3.B.1. of the Accomplishment Instructions of Boeing Alert Service Bulletin DC10-32A260, dated September 30, 2011: Before the accumulation of 6,590 total flight cycles on the bolt, or within 180 days after the effective date of this AD, whichever occurs later, replace the MLG upper torque link bolt with a new or serviceable bolt, in accordance with the Accomplishment Instructions of Boeing Alert Service Bulletin DC10-32A260, dated September 30, 2011. A review of airplane maintenance records is acceptable if the part number of the bolt can be conclusively determined from that review. Thereafter, before the accumulation of 6,590 total flight cycles on any bolt identified in paragraph 3.B.1. of the Accomplishment Instructions of Boeing Alert Service Bulletin DC10-32A260, dated September 30, 2011, replace it with a new or serviceable bolt.

(h) Alternative Methods of Compliance (AMOCs)

(1) The Manager, Los Angeles Airplane Certification Office (ACO), ANM-120L, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (i) of this AD.

(2) Before using any approved AMOC, notify your appropriate principal inspector, or lacking a principal inspector, the manager of the local flight standards district office/certificate holding district office.

(3) An AMOC that provides an acceptable level of safety may be used for any repair required by this AD if it is approved by The Boeing Commercial Airplanes Organization Designation Authorization (ODA) that has been authorized by the Manager, Los Angeles ACO, to make those findings. For a repair method to be approved, the repair must meet the certification basis of the airplane, and 14 CFR 25.571, Amendment 45, and the approval must specifically refer to this AD.

(i) Related Information

For more information about this AD, contact Nenita Odesa, Aerospace Engineer, Airframe Branch, ANM-120L, FAA, Los Angeles Aircraft Certification Office, 3960 Paramount Boulevard, Lakewood, CA 90712-4137; phone: (562) 627-5234; fax: (562) 627-5210; email: nenita.odesa@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin DC10-32A260, dated September 30, 2011.

(ii) Reserved.

(3) For The Boeing Company service information identified in this AD, contact Boeing Commercial Airplanes, Attention: Data & Services Management, 3855 Lakewood Boulevard, MC D800-0019, Long Beach, CA 90846-0001; telephone 206-544-5000, extension 2; fax 206-766-5683; email dse.boecom@boeing.com; Internet https://www.myboeingfleet.com.

(4) You may review copies of the referenced service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 17, 2013.
Ross Landes,
Acting Manager, Transport Airplane Directorate, Aircraft Certification Service.

[FR Doc. 2013-24105 Filed 10-2-13; 8:45 am]

BILLING CODE 4910-13-P